DEPARTMENT OF HEALTH AND HUMAN SERVICES

Office of the Secretary

Notice of Public Meeting/Opportunity for Public Comment: Framework Convention on Tobacco Control (FCTC).

AGENCY: Office of Public Health and Science/Office of the Secretary/HHS.

ACTION: Notice of meeting.

SUMMARY: The Department of Health and Human Services is soliciting comments on the Framework Convention on Tobacco Control (FCTC), a proposed international legal instrument intended to address the global problem of tobacco use. Individuals and organizations are encouraged to comment on the FCTC in one or both of the following ways: (1) In writing, by submission through the mails, or e-mail; (2) in person, at a public meeting that will be convened in San Francisco, CA.

DATES: Written comments may be submitted until March 15, 2001. Comments can be submitted by mail or electronically (electronic submissions are encouraged).

ADDRESSES: To submit electronic comments, send via e-mail to FCTCOIRH@osophs.dhhs.gov. To submit comments by mail, send to: FCTC Comments (Attn: Ms. Amal Thomas), Office of International and Refugee Health, 5600 Fishers Lane, Room 18-105, Rockville, MD 20857. The public meeting will be held on March 8, 2001, from 8:30 a.m. to 5 p.m. at the Bill Graham Civic Auditorium, 99 Grove Street, 4th Floor, San Francisco, CA 94102. Seating capacity is 100 people. Comments also will be accepted during the public meeting. Those who wish to attend are encouraged to register early with the contact person listed below. If you will require a sign language interpreter, or have other special needs, please notify the contact person by 4:30 E.S.T. on February 26, 2001.

FOR FURTHER INFORMATION CONTACT: Ms. Joy Epstein, Office of International and Refugee Health, 5600 Fishers Lane, Room 18-105, Rockville, MD 20857, 301-443-1774 (telephone) or 301-443-6822 (facsimile) or FCTCOIRH@osophs.dhhs.gov.

SUPPLEMENTARY INFORMATION: In May 1999, the World Health Assembly, the governing body of the World Health Organization, unanimously adopted resolution WHA 52.18 calling for negotiation of a Framework Convention on Tobacco Control support (FCTC). The United States joined other countries in voicing support for negotiation of the convention, which is intended to address the global problem of tobacco use. Following two meetings of an FCTC working group held in Geneva in October 1999 and March 2000, an Intergovernmental Negotiating Body (INB) was established to negotiate the text of the FCTC and related protocols. The first session of the INB was held in October 2000. A negotiating team headed by the Deputy Assistant Secretary for International and Refugee Health (HHS) represented the United States. Other members of the negotiating team represented HHS, the Departments of State, Treasury, and Agriculture, and the U.S. Trade Representative. An interagency working group developed the guidance for the negotiating team.

The second INB session is scheduled for April 30-May 5, 2001.

(Background documents on the FCTC are available on the World Health Organization's web site at http://tobacco.who.int/en/fctc/index.html.)

Written Comments: In preparation for the second INB session, the U.S. negotiating delegation is seeking comments from the public on the FCTC. If the WHO publishes a draft FCTC before the date of the hearing, we will seek comments on the provisions of that draft. Further opportunity for public input is envisioned before subsequent negotiating sessions.

Announcement of Meeting: The U.S. government is seeking to understand the perspectives of various organizations and individuals on the Framework Convention on Tobacco Control (FCTC). The comment period and public meeting are intended to give interested persons, including public health and medical professionals, state and local officials, farmers, retailers, manufacturers and others an opportunity to comment on the FCTC. Panels of respondents to this notice will be formed to facilitate the discussion between the public and representatives of the government.

Meeting Location and Registration: The public meeting will be held on March 8, 2001, from 8:30 a.m. to 5 p.m. at the Bill Graham Civic Auditorium, 99 Grove Street, 4th Floor, San Francisco, CA 94102.

If you would like to attend the public meeting, you are encouraged to register early by providing your name, title, firm name, address, and telephone number to Amal Thomas (contact information above). The U.S. government encourages individuals to submit written comments, either electronically or by mail. Comments also will be accepted during the meeting. If you would like to speak at the meeting, please notify Amal Thomas (address above) when you register.

The transcript of the public meeting and submitted comments will be posted on the Internet at http://www.cdc.gov/tobacco.

Dated: January 19, 2001.
Thomas E. Novotny,
Deputy Assistant Secretary for International and Refugee Health, Office of International and Refugee Health.

[FR Doc. 01-2217 Filed 1-24-01; 8:45 am]

BILLING CODE 4160-17-M